OFFICE OF PERSONNEL MANAGEMENT

5 CFR Part 532

RIN 3206-AM21

Prevailing Rate Systems; Redefinition of the Chicago, IL; Fort Wayne-Marion, IN; Indianapolis, IN; Cleveland, OH; and Pittsburgh, PA, Appropriated Fund Federal Wage System Wage Areas

AGENCY: U.S. Office of Personnel Management.

ACTION: Final rule.

SUMMARY: The U.S. Office of Personnel Management is issuing a final rule to redefine the geographic boundaries of the Chicago, IL; Fort Wayne-Marion, IN; Indianapolis, IN; Cleveland, OH; and Pittsburgh, PA, appropriated fund Federal Wage System (FWS) wage areas. The final rule redefines Benton County, IN, from the Chicago wage area to the Indianapolis wage area; Carroll and Howard Counties, IN, from the Fort Wayne-Marion wage area to the Indianapolis wage area; and Carroll County, OH, from the Pittsburgh wage area to the Cleveland wage area. These changes are based on recent consensus recommendations of the Federal Prevailing Rate Advisory Committee to best match the above counties to a nearby FWS survey area. FPRAC recommended no other changes in the geographic definitions of the Chicago, Fort Wayne-Marion, Indianapolis, Cleveland, and Pittsburgh FWS wage areas.

DATES: This regulation is effective on December 27, 2010.

FOR FURTHER INFORMATION CONTACT: Madeline Gonzalez, (202) 606-2838; e-mail pay-performance-policy@opm.gov; or FAX: (202) 606-4264.

SUPPLEMENTARY INFORMATION: On July 9, 2010, the U.S. Office of Personnel Management (OPM) issued a proposed rule (75 FR 39460) to redefine Benton County, IN, from the Chicago, IL, wage area to the Indianapolis, IN, wage area; Carroll and Howard Counties, IN, from the Fort Wayne-Marion, IN, wage area to the Indianapolis wage area; and Carroll County, OH, from the Pittsburgh, PA, wage area to the Cleveland, OH, wage area. These changes are based on recent consensus recommendations of the Federal Prevailing Rate Advisory Committee to best match the above counties to a nearby FWS survey area. The proposed rule had a 30-day comment period during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the Chicago, IL; Fort Wayne-Marion, IN; Indianapolis, IN; Cleveland, OH; and Pittsburgh, PA, wage areas to read as follows:

* * * * *
ILLINOIS
* * * * *
CHICAGO
Survey Area
Illinois:
Cook
Du Page
Kane
Lake
McHenry
Will
Area of Application. Survey area plus:
Illinois:
Boone
De Kalb
Grundy
Iroquois
Kankakee
Kendall
LaSalle
Lee
Livingston
Ogle
Stephenson
Winnebago
Indiana:
Jasper
Lake
La Porte
Newton
Porter
Pulaski
Starke
Wisconsin:
Kenosha
* * * *
INDIANA
* * * * *
FORT WAYNE-MARION
Survey Area
Indiana:
Adams
Allen
DeKalb
Grant
Huntington
Wells
Area of Application. Survey area plus:
Indiana:
Blackford
Cass
Elkhart
Fulton
Jay
Kosciusko
Lagrange
Marshall
Miami
Noble
St. Joseph
Steuben
Wabash
White
Whitley
Ohio:
Allen
Defiance
Fulton
Henry
Mercer
Paulding
Putnam
Van Wert
Williams
INDIANAPOLIS
Survey Area
Indiana:
Boone
Hamilton
Hancock
Hendricks
Johnson
Marion
Morgan
Shelby
Area of Application. Survey area plus:
Indiana:
Bartholomew
Benton
Brown
Carroll
Clay
Clinton
Decatur
Delaware
Fayette
Fountain
Henry
Howard
Madison
Montgomery
Parke
Putnam
Rush
Sullivan
Tippecanoe
Tipton
Vermillion
Vigo
Warren
* * * * *
OHIO
* * * * *
CLEVELAND
Survey Area
Ohio:
Cuyahoga
Geauga
Lake
Medina
Area of Application. Survey area plus:
Ohio:
Ashland
Ashtabula
Carroll
Columbiana
Erie
Huron
Lorain
Mahoning
Ottawa
Portage
Sandusky
Seneca
Stark
Summit
Trumbull
Wayne
* * * * *
PENNSYLVANIA
* * * * *
PITTSBURGH
Survey Area
Pennsylvania:
Allegheny
Beaver
Butler
Washington
Westmoreland
Area of Application. Survey area plus:
Pennsylvania:
Armstrong
Bedford
Blair
Cambria
Cameron
Centre
Clarion
Clearfield
Clinton
Crawford
Elk (Does not include the Allegheny National Forest portion)
Erie
Fayette
Forest (Does not include the Allegheny National Forest portion)
Greene
Huntingdon
Indiana
Jefferson
Lawrence
Mercer
Potter
Somerset
Venango
Ohio:
Belmont
Harrison
Jefferson
Tuscarawas
West Virginia:
Brooke
Hancock
Marshall
Ohio
* * * * *

[FR Doc. 2010-29660 Filed 11-23-10; 8:45 am]

BILLING CODE 6325-39-P